FEDERAL MARITIME COMMISSION

Notice of Agreement Filed

The Commission hereby gives notice of the filing of the following agreement under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012159-001.

Title: Maersk Line/New World Alliance Slot Exchange Agreement.

Parties: A.P. Moller-Maersk A/S trading under the name of Maersk Line; American President Lines, Ltd.; APL Co. Pte, Ltd.; Hyundai Merchant Marine Co., Ltd.; and Mitsui O.S.K. Lines, Ltd. (“MOL”).

Filing Party: David F. Smith, Esquire; Cozen O'Connor; 1627 I Street NW., Suite 1100; Washington, DC 20006-4007.

Synopsis: The amendment authorizes an additional slot sale among the parties.

By Order of the Federal Maritime Commission.
Dated: September 21, 2012.
Rachel Dickon,
Assistant Secretary.

[FR Doc. 2012-23702 Filed 9-25-12; 8:45 am]

BILLING CODE 6730-01-P